DEPARTMENT OF HEALTH AND HUMAN SERVICES

Centers for Disease Control and Prevention

[30Day-15-14AC]

Proposed Data Collections Submitted for Public Comment and Recommendations

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Application of a Web-based Health Survey in Schools—New—National Institute for Occupational Safety and Health (NIOSH), Centers for Disease Control and Prevention (CDC).

Background and Brief Description

The mission of the National Institute for Occupational Safety and Health (NIOSH) is to promote safety and health at work for all people through research and prevention. The Occupational Safety and Health Act, Public Law 91-596 (section 20[a][1]), authorizes NIOSH to conduct research to advance the health and safety of workers. NIOSH is proposing to conduct a health questionnaire of employees in 50 elementary schools in a large school district in the Northeastern United States.

According to the 2012 Bureau of Labor Statistics survey, the educational services sector employs approximately 12.9 million workers, with 8.4 million working in elementary and secondary schools. A 2010 analysis of data on U.S. working adults indicated that the educational services sector had one of the highest prevalences of current asthma at 13.1%.

In 1995, the Government Accounting Office reported that about 33% of schools in the U.S. needed extensive repair or replacement of one or more buildings, which includes problems related to dampness and mold. A better understanding of school building conditions related to dampness and mold, as well as associated health effects, is essential for the prevention of work-related illness in school staff.

NIOSH requests OMB approval to administer an internet-based questionnaire to collect health information on staff from 50 schools within this school district. NIOSH will collaborate with the school district and local teachers union to recruit a broad range of school staff as participants, including teachers, administrative staff, facilities and maintenance staff, nurses and counselors, and kitchen staff for this study. Results will be used to determine possible relationships between health outcomes and environmental conditions, specifically conditions related to dampness and mold.

Overall results will benefit many stakeholders, including school-affiliated and general administrative personnel, facilities and maintenance representatives, building owners, and safety and health professionals charged with the prevention, identification, and remediation of environmental issues when occupant health concerns are raised.

NIOSH anticipates that the internet-based questionnaire will begin in the spring of 2015. All participants will be asked to complete the same questionnaire, which will take approximately 20 minutes to complete. All questionnaire results will be stored and analyzed on CDC computer systems. If the participation rate is less than 80%, NIOSH will distribute a paper-based non-respondent questionnaire to 400 randomly selected employees and ask them to mail it back in a postage-paid envelope. This will take approximately 5 minutes.

The total estimated burden for this one-time collection of data is 1,100 hours. There are no costs to respondents other than their time.

Estimated Annualized Burden Hours
Type of respondents | Form name | Number of respondents | Number of responses per respondent | Average burden per response (in hours)
Elementary School Employees | Questionnaire | 3,200 | 1 | 20/60
Elementary School Employees | Non-respondent questionnaire | 400 | 1 | 5/60

Leroy A. Richardson,
Chief, Information Collection Review Office, Office of Scientific Integrity, Office of the Associate Director for Science, Office of the Director, Centers for Disease Control and Prevention.

[FR Doc. 2014-25094 Filed 10-21-14; 8:45 am]

BILLING CODE 4163-18-P